DEPARTMENT OF TRANSPORTATION

Coast Guard

[CGD08-01-038]

Proposed Faciane Canal Bridge Project; Faciane Canal Near Slidell, St. Tammany Parish, LA

AGENCY: Coast Guard, DOT.

ACTION: Notice of public hearing; request for comments.

SUMMARY: The Coast Guard will hold a public hearing to receive comments on an application by Waterfront Developers L.L.C. for Coast Guard approval of the location and plans for a proposed bridge. The proposed location of the bridge is across the Faciane Canal, mile 0.1, near Slidell, St. Tammany Parish, Louisiana. The hearing will allow interested persons to present comments and information concerning the impact of the proposed bridge project on navigation and the human environment.

DATES: This hearing will be held on November 28, 2001, commencing at 7 p.m. Comments must be received by December 13, 2001. Requests to speak and requests for services must be received in the office of Bridge Administration at the address given under ADDRESSES by November 21, 2001.

ADDRESSES: The hearing will be held at the cafetorium of Salmen High School, 4040 Berkley Drive, Slidell, Louisiana 70458.

Written comments may be submitted to, and will be available for examination between 7 a.m. and 3 p.m., Monday through Friday, except Federal holidays at the office of the Eighth Coast Guard District, Bridge Administration Branch, Commander (obc), 501 Magazine Street, New Orleans, Louisiana 70130-3396. Please submit all comments in an unbound format, no larger than 8 x 11 inches, suitable for copying and electronic filing. Persons wanting acknowledgement of receipt of comments should enclose a stamped, self-addressed postcard or envelope.

FOR FURTHER INFORMATION CONTACT: Mr. David Frank, Project Officer, Bridge Administration Branch, telephone (504) 589-2965.

SUPPLEMENTARY INFORMATION:

Background

The proposed project consists of constructing a movable bridge from Carr Drive to Paradise Island across the Faciane Canal. The proposed bridge will be 135 feet long and will have a clear roadway width of 12 feet. The applicant, based upon comments from interested persons, has moved the location of the draw of the bridge to the approximate center of the channel and has increased the horizontal clearance to 30 feet between the fender system. The vertical clearance of the proposed bridge in the closed-to-navigation position is 5.7 feet above mean high water, elevation 1.3 feet above Mean Sea Level (MSL) and unlimited in the open-to-navigation position.

The proposed bridge, if approved, will be operated and lighted in accordance with the requirements of Title 33, Code of Federal Regulations, Parts 117 and 118. The bridge will be maintained in the open-to-navigation position and close for vehicular traffic by code control panels accessible only to authorized personnel.

The Coast Guard, as lead federal agency for the proposed project, has reviewed the applicant-prepared Environmental Assessment (EA). Based upon the EA, the Coast Guard has tentatively determined that the proposed action will not have a significant impact on the environment for purposes of the National Environmental Policy Act (NEPA). A Coast Guard Finding of No Significant Impact (FONSI) will be prepared as the final environmental document for the proposed project unless significant impacts are identified as a result of this public notification process to warrant the preparation of an Environmental Impact Statement (EIS).

Only two alternatives are currently being considered for this project. These alternatives are defined as the “build” and “no-build” alternatives.

Procedural

Individuals and representatives of organizations that wish to present testimony at the hearing or who want to be placed on the project mailing list, may submit a request to this office at the address listed under ADDRESSES clearly indicating name and organization represented, if applicable. Requests to speak should be received no later than November 21, 2001 in order to ensure proper scheduling for the hearing. Attendees at the hearing who wish to present testimony and have not previously made a request to do so, will follow those attendees who have made a request as time permits. Speakers will be called in the order of receipt of their request. Depending upon the number of scheduled statements, the Coast Guard may limit the amount of time allowed for each speaker. Written statements and other exhibits in lieu of, or in addition to, oral statements made at the hearing may be submitted to this office at the address listed under ADDRESSES until December 13, 2001, for inclusion in the public hearing transcript.

Information on Services for Individuals With Disabilities

For information about facilities or services for individuals with disabilities or to request special assistance at the meeting, contact the Commander, Eighth Coast Guard District (obc). Please request these services by contacting this office at the phone number under FOR FURTHER INFORMATION CONTACT or in writing at the address listed under ADDRESSES. Any requests for an oral or sign language interpreter must be received by November 21, 2001.

Authority: 33 U.S.C. 513, 49 CFR 1.46.

Dated: October 17, 2001.
J.R. Whitehead,
Captain, U.S. Coast Guard, Commander, 8th Coast Guard District, Acting.

[FR Doc. 01-26995 Filed 10-25-01; 8:45 am]

BILLING CODE 4910-15-P